DEPARTMENT OF HEALTH AND HUMAN SERVICES

National Institutes of Health

National Institute of Mental Health; Notice of Meeting

Pursuant to section 10(a) of the Federal Advisory Committee Act, as amended (5 U.S.C. App.), notice is hereby given of a meeting of the Interagency Autism Coordinating Committee (IACC) Subcommittee on Safety.

The IACC Subcommittee on Safety will be having a conference call on Monday, January 12, 2011. The subcommittee plans to discuss a draft letter to the Secretary of Health and Human Services on issues related to autism and safety, as well as plans for future activities. This meeting will be accessible to the public through a conference call.

Name of Committee: Interagency Autism Coordinating Committee (IACC).

Type of meeting: Subcommittee on Safety.

Date: January 12, 2011.

Time: 11 a.m. to 1 p.m. Eastern Time.

Agenda: The subcommittee plans to discuss a draft letter to the Secretary of Health and Human Services on issues related to autism and safety, as well as plans for future activities.

Place: No in-person meeting; conference call only.

Conference Call Access: Dial: 888-456-0356, Access code: 142016.

Contact Person: Ms. Lina Perez, Office of Autism Research Coordination, National Institute of Mental Health, NIH, 6001 Executive Boulevard, NSC, Room 8185a, Rockville, MD 20852, Phone: 301-443-6040, E-mail: IACCPublicInquiries@mail.nih.gov.

Please Note: The conference call will be accessible to the public through a conference call-in number and access code. Members of the public who participate using the conference call phone number will be able to listen to the meeting but will not be heard. If you experience any technical problems with the conference call, please e-mail IACCTechSupport@acclaroresearch.com or call the IACC Technical Support Help Line at 443-680-0098.

Individuals who participate by using this electronic service and who need special assistance, such as captioning of the conference call or other reasonable accommodations, should submit a request to the Contact Person listed on this notice at least 7 days prior to the meeting.

Schedule subject to change.

Information about the IACC and a registration link for this meeting are available on the Web site: http://www.iacc.hhs.gov.

Dated: December 21, 2010.
Jennifer S. Spaeth,
Director, Office of Federal Advisory Committee Policy.

[FR Doc. 2010-32795 Filed 12-28-10; 8:45 am]

BILLING CODE 4140-01-P